DEPARTMENT OF HOMELAND SECURITY

Office of the Secretary

Published Privacy Impact Assessments on the Web

AGENCY: Privacy Office, Office of the Secretary, Department of Homeland Security.

ACTION: Notice of Publication of Privacy Impact Assessments.

SUMMARY: The Privacy Office of the Department of Homeland Security is making available nine (9) Privacy Impact Assessments on various programs and systems in the Department. These assessments were approved and published on the Privacy Office's Web site between July 1, 2007 and September 30, 2007.

DATES: The Privacy Impact Assessments will be available on the DHS Web site until May 5, 2008, after which they may be obtained by contacting the DHS Privacy Office (contact information below).

FOR FURTHER INFORMATION CONTACT: Hugo Teufel III, Chief Privacy Officer, Department of Homeland Security, Mail Stop 0550, Washington, DC 20528, or e-mail: pia@dhs.gov.

SUPPLEMENTARY INFORMATION: July 1, 2007 and September 30, 2007, the Chief Privacy Officer of the Department of Homeland Security (DHS) approved and published nine (9) Privacy Impact Assessments (PIAs) on the DHS Privacy Office Web site, http://www.dhs.gov/privacy, under the link for “Privacy Impact Assessments.” Below is a short summary of each of those systems, including the DHS component responsible for the system, the name of the system, and the date on which the PIA was approved. Additional information can be found on the Web site or by contacting the Privacy Office.

System: Secure Border Initiative-net.

Component: Customs and Border Protection.

Date of approval: July 20, 2007.

The Secure Border Initiative-net (SBInet) is a DHS Customs and Border Protection (CBP) system designed to detect, identify, apprehend, and remove illegal entrants to the U.S. on and between the Ports of Entry (POE). This PIA addresses Project 28, which is a concept demonstration prototype for the SBInet program. Project 28 focuses on a 28 mile border segment surrounding the Sasabe, Arizona POE. This PIA has been conducted because SBInet collects and processes personally identifiable information (PII).

System: Arrival and Departure Information System.

Component: U.S. VISIT.

Date of approval: August 1, 2007.

The PIA for the Arrival and Departure Information System (ADIS) describes changes to ADIS corresponding to the publication of a new ADIS System of Records Notice (SORN). As now proposed, ADIS will be a DHS-wide system to serve certain programs, including those of the intelligence community, that require information, in support of the DHS mission, on individuals who seek to enter or who have arrived in or departed from the United States. US-VISIT conducted this PIA update based on these proposed changes.

System: Automated Targeting System.

Component: Customs and Border Protection.

Date of approval: August 3, 2007.

CBP has developed the Automated Targeting System (ATS). ATS is one of the most advanced targeting systems in the world. Using a common approach for data management, analysis, rules-based risk management, and user interfaces, ATS supports all CBP mission areas and the data and rules specific to those areas. CBP updated and republished the PIA in conjunction with the SORN and the Notice of Proposed Rulemaking (NPRM) for Privacy Act exemptions that was published on August 6, 2007 in the Federal Register.

System: Advanced Passenger Information System Update for Final Rule.

Component: Customs and Border Protection.

Date of approval: August 9, 2007.

CBP issued a Final Rule to amend regulations governing the submission of Advanced Passenger Information System (APIS) data by commercial aircraft and vessels prior to departing for or from the United States and for crew member (and certain non crew-member) data for commercial aircraft overflying the United States. CBP published a PIA and an associated SORN and NPRM for Privacy Act exemptions for APIS.

System: Secure Flight Program.

Component: Transportation Security Administration.

Date of approval: August 9, 2007.

The Secure Flight Program is intended to match identifying information of aviation passengers and certain non-travelers against the consolidated and integrated terrorist watch list maintained by the Federal Government in a consistent and accurate manner, while minimizing false matches and protecting personally identifiable information. The program, this PIA, the associated SORN, and the NPRM are expected to change in response to public comment. A revised PIA and if necessary a revised SORN will be issued in conjunction with the Final Rule for Secure Flight.

System: Western Hemisphere Travel Initiative (WHTI) Land and Sea Rule.

Component: Customs and Border Protection.

Date of approval: August 10, 2007.

CBP, in conjunction with the Bureau of Consular Affairs at the Department of State, published a notice of proposed rulemaking to notify the public of how they intend to implement the WHTI for sea and land ports of entry. The proposed rule, would remove the current regulatory exceptions to the passport requirement provided under sections 212(d)(4)(B) and 215(b) of the Immigration and Nationality Act (INA). The PIA discusses the privacy impact of the program.

System: Verification Information System Update.

Component: U.S. Citizenship and Immigration Services.

Date of approval: September 5, 2007.

United States Citizenship and Immigration Services (USCIS) provides immigration status verification services for benefit determinations and employment authorization through its Verification Division. Presently, two programs exist to implement this mandate: the Systematic Alien Verification for Entitlements (SAVE) program for government benefits and the Employment Eligibility Verification/Basic Pilot Program, recently renamed “E-Verify,” for employment authorization for all newly hired employees. The Verification Information System (VIS) is a composite information system incorporating data from various Department of Homeland Security databases and functions as the underlying information technology that supports these programs. USCIS is amending the PIA dated April 1, 2007 to describe updates to VIS that will improve the ability of USCIS to provide limited citizenship and immigration information to users of SAVE and E-Verify.

System: Advance Passenger Information System (APIS) Update For Customs and Border Protection's General Aviation Notice of Proposed Rulemaking.

Component: Customs and Border Protection.

Date of approval: September 11, 2007.

This is an update to the previous APIS PIA (August 8, 2007) to discuss an expansion of the scope of the APIS data collection to include non-commercial aviation. In conjunction with this update, CBP published a NPRM that proposing to amend the CBP regulations contained in 19 CFR Part 122 to address the advance electronic submission of information for private aircraft arriving in and departing from the United States.

System: Personnel Security Activities Management System.

Component: Office of Security.

Date of approval: September 12, 2007.

The Department of Homeland Security Office of Security uses the Personnel Security Activities Management System (PSAMS) to automate the tracking of the status of Personnel Security related activities at DHS headquarters.

Hugo Teufel III,
Chief Privacy Officer, Department of Homeland Security.

[FR Doc. E8-4244 Filed 3-4-08; 8:45 am]

BILLING CODE 4410-10-P